DEPARTMENT OF COMMERCE

Economic Development Administration

The National Advisory Council on Innovation and Entrepreneurship; Meeting of the National Advisory Council on Innovation and Entrepreneurship

AGENCY: Economic Development Administration, U.S. Department of Commerce.

ACTION: Notice of an open meeting.

SUMMARY: The National Advisory Council on Innovation and Entrepreneurship will hold a meeting on Tuesday, June 14, 2011. The open meeting will be conducted from 10 a.m. to 12:15 p.m. A limited number of seats are available to members of the public who would like to attend the meeting in person. The public can also dial in to the meeting via a listen-only conference number: 800-369-3377, passcode 9687020. Chartered on November 10, 2009, the Council advises the Secretary of Commerce on matters relating to innovation and entrepreneurship in the United States.

DATES: June 14, 2011.

Time: 10 a.m.-12:15 p.m. (EDT).

ADDRESSES: The meeting will be held in the Howard University School of Business auditorium at 2600 6th Street NW., Washington, DC 20059. For information on public participation, please visit http://www.eda.gov/NACIE. For in person or audio only participation, please specify any requests for reasonable accommodation of auxiliary aids at least five business days in advance of the meeting. Last minute requests will be accepted, but may be impossible to fill.

SUPPLEMENTARY INFORMATION: The preliminary agenda includes: sub-committee updates and open discussion by members regarding access to capital, the growth of businesses, and collaborative efforts to spur commercialization and regional innovation; remarks by Secretary Locke; and a question and answer session with the audience. Any member of the public may submit pertinent written comments concerning the Council's affairs at any time before and after the meeting. Comments may be submitted to Bilal Mahmood via the contact information listed below. Copies of meeting minutes will be available within 90 days of the meeting at http://www.eda.gov/NACIE.

FOR FURTHER INFORMATION CONTACT: Bilal Mahmood, Office of Innovation and Entrepreneurship, Room 7019, 1401 Constitution Avenue, NW., Washington, DC, 20230; Telephone: 202-482-3688; E-mail: bmahmood@eda.doc.gov. Please reference “NACIE June 14, 2011” in the subject line of your e-mail.

Dated: May 25, 2011.
Paul J. Corson,
Office of Innovation and Entrepreneurship, U.S. Department of Commerce.

[FR Doc. 2011-13411 Filed 5-31-11; 8:45 am]

BILLING CODE 3510-03-P